DEPARTMENT OF ENERGY

Federal Energy Regulatory Commission

Combined Notice of Filings #1

Take notice that the Commission received the following electric corporate filings:

Docket Numbers: EC20-82-000.

Applicants: Golden Fields Solar III, LLC.

Description: Informational Submission to July 20, 2020 Application for Authorization Under Section 203 of the Federal Power Act of Golden Fields Solar III, LLC.

Filed Date: 9/3/20.

Accession Number: 20200903-5209.

Comments Due: 5 p.m. ET 9/17/20.

Take notice that the Commission received the following electric rate filings:

Docket Numbers: ER10-2906-015; ER10-2908-015; ER19-1716-003; ER11-4393-009.

Applicants: Morgan Stanley Capitol Group Inc., MS Solar Solutions Corp., Morgan Stanley Energy Structuring, L.L.C, TAQA Gen X LLC.

Description: Notice of Non-Material Change in Status of the MS Public Utilities, et al.

Filed Date: 9/4/20.

Accession Number: 20200904-5178.

Comments Due: 5 p.m. ET 9/25/20.

Docket Numbers: ER13-1667-005.

Applicants: Battery Utility of Ohio, LLC.

Description: Market Power Update for the Northeast region of Battery Utility of Ohio, LLC.

Filed Date: 9/14/20.

Accession Number: 20200914-5159.

Comments Due: 5 p.m. ET 11/13/20.

Docket Numbers: ER17-105-005; ER17-104-005; ER17-556-004; ER15-1019-007; ER10-1362-004; ER12-2639-009; ER20-1722-000; ER18-2158-001; ER11-3959-008.

Applicants: Broadview Energy JN, LLC, Broadview Energy KW, LLC, Grady Wind Energy Center, LLC, Fowler Ridge IV Wind Farm LLC, Hatchet Ridge Wind, LLC, Spring Valley Wind LLC, Ocotillo Express LLC, Lost Creek Wind, LLC, Post Rock Wind Power Project, LLC, Stillwater Wind, LLC.

Description: Third Supplement to April 20, 2020 Notice of Change in Status of the Pattern MBR Entities, et al.

Filed Date: 9/2/20.

Accession Number: 20200902-5299.

Comments Due: 5 p.m. ET 9/23/20.

Docket Numbers: ER20-1593-001; ER20-2715-002; ER17-380-002; ER19-997-002; ER16-2549-003.

Applicants: Highlander Solar Energy Station 1, LLC, Stored Solar, LLC, Stored Solar J&WE, LLC, Stored Solar Bethlehem, LLC, Stored Solar Tamworth, LLC.

Description: Notice of Non-Material Change in Status of Highlander Solar Energy Station 1, LLC, et al.

Filed Date: 9/11/20.

Accession Number: 20200911-5339.

Comments Due: 5 p.m. ET 10/2/20.

Docket Numbers: ER20-1593-002.

Applicants: Highlander Solar Energy Station 1, LLC.

Description: Compliance filing: Highlander Solar Energy Station 1, LLC—Market-Based Rate Tariff Update to be effective 9/15/2020.

Filed Date: 9/14/20.

Accession Number: 20200914-5119.

Comments Due: 5 p.m. ET 10/5/20.

Docket Numbers: ER20-1594-002.

Applicants: Highlander IA, LLC.

Description: Compliance filing: Highlander IA, LLC—Market-Based Rate Tariff Update to be effective 9/15/2020.

Filed Date: 9/14/20.

Accession Number: 20200914-5120.

Comments Due: 5 p.m. ET 10/5/20.

Docket Numbers: ER20-1596-002.

Applicants: Pleinmont Solar 1, LLC.

Description: Compliance filing: Pleinmont Solar 1, LLC—Market-Based Rate Tariff Update to be effective 9/15/2020.

Filed Date: 9/14/20.

Accession Number: 20200914-5121.

Comments Due: 5 p.m. ET 10/5/20.

Docket Numbers: ER20-1597-002.

Applicants: Pleinmont Solar 2, LLC.

Description: Compliance filing: Pleinmont Solar 2, LLC—Market-Based Rate Tariff Update to be effective 9/15/2020.

Filed Date: 9/14/20.

Accession Number: 20200914-5123.

Comments Due: 5 p.m. ET 10/5/20.

Docket Numbers: ER20-1599-002.

Applicants: Richmond Spider Solar, LLC.

Description: Compliance filing: Richmond Spider Solar, LLC—Market-Based Rate Tariff Update to be effective 9/15/2020.

Filed Date: 9/14/20.

Accession Number: 20200914-5118.

Comments Due: 5 p.m. ET 10/5/20.

Docket Numbers: ER20-1837-002

Applicants: Duke Energy Florida, LLC, Duke Energy Progress, LLC, Duke Energy Carolinas, LLC.

Description: Compliance filing: Second Amendment to Joint OATT Order 864 Compliance Filing to be effective 1/27/2020.

Filed Date: 9/14/20.

Accession Number: 20200914-5122.

Comments Due: 5 p.m. ET 10/5/20.

Docket Numbers: ER20-2877-000.

Applicants: Pinetree Power LLC.

Description: § 205(d) Rate Filing: Notice of Succession filing to be effective 9/15/2020.

Filed Date: 9/14/20.

Accession Number: 20200914-5124.

Comments Due: 5 p.m. ET 10/5/20.

Docket Numbers: ER20-2878-000.

Applicants: Pacific Gas and Electric Company.

Description: § 205(d) Rate Filing: Wholesale Distribution Tariff Rate Case 2020 (WDT3) to be effective 11/15/2020.

Filed Date: 9/15/20.

Accession Number: 20200915-5001.

Comments Due: 5 p.m. ET 10/6/20.

Docket Numbers: ER20-2879-000.

Applicants: Tri-State Generation and Transmission Association, Inc.

Description: § 205(d) Rate Filing: Filing of Service Agreement No. 887 to be effective 2/25/2020.

Filed Date: 9/15/20.

Accession Number: 20200915-5002.

Comments Due: 5 p.m. ET 10/6/20.

Docket Numbers: ER20-2880-000.

Applicants: Tri-State Generation and Transmission Association, Inc.

Description: Tariff Cancellation: Notice of Cancellation of Rate Schedule FERC No. 258 to be effective 8/26/2020.

Filed Date: 9/15/20.

Accession Number: 20200915-5003.

Comments Due: 5 p.m. ET 10/6/20.

Docket Numbers: ER20-2881-000.

Applicants: Harts Mill Solar, LLC.

Description: Baseline eTariff Filing: Application for Market-Based Rate Authority to be effective 11/14/2020.

Filed Date: 9/15/20.

Accession Number: 20200915-5023.

Comments Due: 5 p.m. ET 10/6/20.

Docket Numbers: ER20-2882-000.

Applicants: Southwest Power Pool, Inc.

Description: § 205(d) Rate Filing: Revisions to Attachment X to Modify Credit Application to be effective 1/1/2021.

Filed Date: 9/15/20.

Accession Number: 20200915-5026.

Comments Due: 5 p.m. ET 10/6/20.

Docket Numbers: ER20-2883-000.

Applicants: AES Laurel Mountain, LLC.

Description: Baseline eTariff Filing: Reactive Power Compensation Filing to be effective 11/14/2020.

Filed Date: 9/15/20.

Accession Number: 20200915-5029.

Comments Due: 5 p.m. ET 10/6/20.

Docket Numbers: ER20-2884-000.

Applicants: Midcontinent Independent System Operator, Inc.

Description: § 205(d) Rate Filing: 2020-09-15_SA 3356 METC-Isabella Renewables II 1st Rev GIA (J728) to be effective 8/31/2020.

Filed Date: 9/15/20.

Accession Number: 20200915-5038.

Comments Due: 5 p.m. ET 10/6/20.

Docket Numbers: ER20-2885-000.

Applicants: Duke Energy Florida, LLC.

Description: § 205(d) Rate Filing: DEF-FPL Affected System Study Agreement to be effective 9/14/2020.

Filed Date: 9/15/20.

Accession Number: 20200915-5047.

Comments Due: 5 p.m. ET 10/6/20.

Docket Numbers: ER20-2886-000.

Applicants: Pinetree Power-Tamworth, LLC.

Description: § 205(d) Rate Filing: Notice of succession filing to be effective 9/16/2020.

Filed Date: 9/15/20.

Accession Number: 20200915-5063.

Comments Due: 5 p.m. ET 10/6/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2020.
Nathaniel J. Davis, Sr.,
Deputy Secretary.

[FR Doc. 2020-20766 Filed 9-18-20; 8:45 am]

BILLING CODE 6717-01-P